DEPARTMENT OF THE INTERIOR

National Park Service

Golden Gate National Recreation Area, Big Lagoon Wetland and Redwood Creek Restoration, Marin County, California; Notice of Intent to Prepare an Environmental Impact Statement

SUMMARY: In accordance with § 102 (2)(C) of the National Environmental Policy Act (42 U.S.C. 4321 et. seq), the National Park Service (NPS) is undertaking a comprehensive conservation planning and environmental impact analysis process regarding the proposed restoration/enhancement of the lower Redwood Creek watershed at Muir Beach. The purpose of the project is to restore or enhance ecological conditions and processes, reducing flooding of local infrastructure, and providing public access to the beach and restored wetland and creek. Key issues to be addressed will include habitat for fish and wildlife, ecosystem conditions and processes, effects on special status plant and animal species, hydrology, flood hazards, traffic, visitor access, and visitor experience. Notice is hereby given that a public scoping process has been initiated. The purpose of the public scoping process is to elicit public comment regarding the full spectrum of issues and concerns, a suitable range of alternatives, the nature and extent of potential environmental impacts or ecological benefits, and appropriate mitigation strategies that should be addressed in preparing a draft Environmental Impact Statement (EIS).

Background: The Big Lagoon project site is located at the mouth of the Redwood Creek watershed, which drains an 8.9-square-mile area on the southwestern slopes of Mt. Tamalpais in coastal Martin County. Approximately half of the restoration planning area is federally owned and is situated within the Golden Gate National Recreation Area (GGNRA); the remainder is owned by the San Francisco Zen Center. The project site is a popular destination in the park, receiving approximately 440,000 visitors annually. Historically this area supported a freshwater and brackish lagoon with associated permanent and seasonal wetlands, riparian forest, and beach dune communities. The entire area of Muir Beach and the adjacent lowland pastures were part of the Redwood Creek floodplain. The creek meandered across the valley floor and, during floods, deposited sediment across the floodplain area. Today, the creek has been confined and much of the floodplain eliminated due to the combined effects of road and levee construction, channeling projects, and placement of the NPS parking lot and picnic area.

Restoration Goals: The GGNRA is preparing an EIS to address possible extent of restoration and/or enhancement of natural resource values. The goals of the proposal include the following:

• Restore a functional, self-sustaining ecosystem, including wetland, aquatic, dune, upland, and riparian components.

• Develop a restoration design that: (a) Functions in the context of the watershed and other pertinent regional boundaries, (b) identifies and, to the extent possible, mitigates factors that reduce the site's full restoration potential. Understanding of historical and current conditions and physical processes in the watershed is required to meet this objective.

• Consistent with restoring a functional ecosystem, create habitat adequate to support sustainable populations of special status species.

• Reduce flooding on Pacific Way and in the Muir Beach community on a long-term basis, and work with Marin County to ensure that vehicle access is provided to the Muir Beach community.

• Work with Comprehensive Transportation Management Plan staff to identify transportation alternatives that are consistent with ecosystem restoration.

• Provide for visitor experience, public access, and resource interpretation that are compatible with ecosystem restoration and historic preservation.

• Protect cultural resources and work with the Federated Indians of Graton Rancheria to incorporate cultural values and indigenous archaeological sites into the restoration design and site stewardship.

• Provide opportunities for public education and community-based restoration, including engaging local and broader communities in site stewardship and restoration planning.

Public Process to Date: The National Park Service drafted a preliminary Environmental Assessment (EA) for restoration measures considered for this area in 1994; however the EA process was not ever completed and no project was implemented. Since that time, the site has changed and new information has been developed. Due to the changed conditions, a new analysis of restoration options, mitigation issues, etc will be undertaken. At this time, public scoping meetings for the Big Lagoon wetlands and Redwood Creek restoration are scheduled as follows: Oct. 22, 2002 at the regular meeting of the GGNRA Citizens' Advisory Commission, Oct. 29, 2002 at the Muir Beach Community Center, and Nov. 2, 2002 at Tamalpais High School in Mill Valley. Site walk-thrus are be conducted on Nov. 9, 2002. Also, early technical scoping reviews were held on-site throughout July and August 2002 with experts of various disciplines (archaeology, biology, wetland and riparian ecology, geomorphology, and visitor access) to assist the project team in building a knowledge base on which study designs and preliminary alternatives will be formulated. To support the public process and foster ready access to information, GGNRA is developing a website for the project that will be hosted on the GGNRA Web site (http://www.nps.gov/goga/admin/planning). The Web site will be a key component of the public involvement strategy and will allow the public to view and retrieve planning documents, fact sheets, and meeting notices for the project. Following scoping and with continued input from the public and regulatory and resources agencies, a full range of preliminary project alternatives will be developed and evaluated. GGNRA staff anticipate a minimum of three alternatives, including the No-Action Alternative. An “environmentally preferred” alternative will be disclosed in the draft EIS.

Comments and Public Scoping: As noted above, three scoping meetings are scheduled during Fall 2002. Confirmed details on all scoping meetings will be announced through direct mailing, the project Web site, and local and regional media. Interested individuals, organizations and agencies are invited to attend these meetings to comment orally and/or provide written comments or suggestions. Interested persons may also refer to the GGNRA Web site for more information on this project. A scoping document (including applicable information from the 1994 EA) and site information will be available at the above Web site, or can be obtained by writing or telephoning the GGNRA staff person listed below. Comments, suggestions, or relevant information (or requests to be added to the project mailing list) should be sent to: Big Lagoon Wetland and Redwood Creek Restoration, Golden Gate National Recreation Area (Attn: Jennifer Vick, Project Manager), Building 201, Fort Mason, San Francisco, CA 94123 [Telephone (415) 561-4942]. All written comments for the scoping phase of Big Lagoon Wetland and Redwood Creek Restoration EIS must be postmarked not later than 45 days following the publication of this notice in the Federal Register.

All respondents are advised that individual names and addresses of persons commenting on the project EIS may be included as part of the public record. If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision Process: Availability of the draft EIS for review and written comment will be announced in the Federal Register, as well as through local and regional news media, the GGNRA Web site, and direct mailing to the project mailing list. At this time, the draft EIS is anticipated to be available for public review in early 2004. To ensure further opportunity to comment on the draft EIS after it is distributed, additional public meetings will be held (dates and locations to be determined). Notice of the availability of the final EIS will similarly be published in the Federal Register. As a delegated EIS, the official responsible for the final decision is the Regional Director, Pacific West Region; subsequently, the official responsible for implementation is the Superintendent, Golden Gate National Recreation Area.

Dated: October 9, 2002.
Jonathan B. Jarvis,
Regional Director, Pacific West Region.

[FR Doc. 02-30489 Filed 12-2-02; 8:45 am]

BILLING CODE 4310-70-P